DEPARTMENT OF HEALTH AND HUMAN SERVICES

National Institutes of Health

National Institute of Allergy and Infectious Diseases; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Allergy and Infectious Diseases Special Emphasis Panel; HIV Vaccines Clinical Trials Network Leadership and Operations Center (UM1 Clinical Trial Required).

Date: November 21, 2019.

Time: 10:00 a.m. to 2:00 p.m.

Agenda: To review and evaluate grant applications.

Place: National Institutes of Health, 5601 Fishers Lane, Rockville, MD 20892 (Telephone Conference Call).

Contact Person: Audrey O. Lau, Ph.D., MPH Acting Senior Scientific Review Officer, AIDS Review Branch, Scientific Review Program, RM 3E70, National Institutes of Health, NIAID, 5601 Fishers Lane, MSC 9834, Rockville, MD 20852-9834, 240-669-2081, audrey.lau@nih.gov.

Name of Committee: National Institute of Allergy and Infectious Diseases Special Emphasis Panel; NIH Support for Conferences and Scientific Meetings (Parent R13 Clinical Trial Not Allowed).

Date: November 25, 2019.

Time: 10:30 a.m. to 12:00 p.m.

Agenda: To review and evaluate grant applications.

Place: National Institutes of Health, 5601 Fishers Lane, Rockville, MD 20892 (Telephone Conference Call).

Contact Person: Audrey O. Lau, Ph.D., MPH Scientific Review Officer, AIDS Review Branch, Scientific Review Program, RM 3E70, National Institutes of Health, NIAID, 5601 Fishers Lane, MSC 9834, Rockville, MD 20852-9834 240-669-2081 audrey.lau@nih.gov.

(Catalogue of Federal Domestic Assistance Program Nos. 93.855, Allergy, Immunology, and Transplantation Research; 93.856, Microbiology and Infectious Diseases Research, National Institutes of Health, HHS)

Dated: October 24, 2019.
Tyeshia M. Roberson,
Program Analyst, Office of Federal Advisory Committee Policy.

[FR Doc. 2019-23641 Filed 10-29-19; 8:45 am]

BILLING CODE 4140-01-P